DEPARTMENT OF AGRICULTURE

Forest Service

DEPARTMENT OF INTERIOR

Bureau of Land Management

[ID-918-00-1610-DE-UCRB]

Interior Columbia Basin Ecosystem Management Project, Northern, Intermountain, and Pacific Northwest Regions; Interior Columbia Basin Ecosystem Management Project, States of Oregon, Washington, Idaho, Montana

AGENCIES: Forest Service, USDA; Bureau of Land Management, USDI.

ACTION: Notice of availability of a Congressionally-required report on the Interior Columbia Basin Ecosystem Management Project (ICBEMP).

SUMMARY: The Forest Service and Bureau of Land Management are developing a scientifically sound, ecosystem-based management strategy for certain lands under their jurisdiction east of the Cascade crest in Oregon and Washington and in the Columbia River Basin in Idaho and Montana. The 1998 and 2000 Interior and Related Agencies Appropriations Acts required the Secretaries of Agriculture and the Interior to prepare a report on certain aspects of the ICBEMP, to provide for a 120-day public review of, and comment on, this report, and to respond to comments on the report in the final Environmental Impact Statement for the ICBEMP. The Congressionally-required report is now available for public review and comment.

DATES: Written comments on the report will be accepted through August 23, 2000. The ICBEMP interdisciplinary team will then analyze the comments and respond to them in the final EIS. The final EIS is expected to be available in late fall, 2000.

ADDRESSES: Copies of the report may be obtained from ICBEMP, 304 N. 8th Street, Room 250, Boise, ID 83702 or by calling (208) 334-1770, ext. 120. The report is also available via the internet (http://www.icbemp.gov).

Comments on the report should be submitted in writing to SDEIS, P.O. Box 420, Boise, Idaho 83701-0420. Comments may be submitted electronically at the ICBEMP's home page (http://www.icbemp.gov), where a comment form is available.

Comments, including names and street addresses of respondents, will be available for public review at the Boise office during regular business hours (8 a.m. to 5 p.m. Monday through Friday, except holidays), and may be published as part of the final environmental impact statement. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety. Comments submitted anonymously will be accepted and considered; however, those who submit anonymous comments may not have standing to appeal the decision under 36 CFR 217 (Forest Service) or standing to protest the proposed decision under 43 CFR 1610.5-2 (Bureau of Land Management).

FOR FURTHER INFORMATION CONTACT: Susan Giannettino, Project Manager, 304 North 8th St., Room 250, Boise, Idaho 83702, phone (208) 334-1770; or Geoff Middaugh, Deputy Project Manager, P.O. Box 2344, Walla Walla, Washington 99362, phone (509) 522-4030.

SUPPLEMENTARY INFORMATION: This report is in response to the requirements defined in Section 323(a) of the 1998 Interior and Related Agencies Appropriations Act, as modified by Section 335 of the 2000 Interior and Related Agencies Appropriations Act.

Section 335 of the 2000 Interior and Related Agencies Appropriations Act modified and addressed specific portions and timing of Section 323(a) of the 1998 Interior and Related Agencies Appropriations Act, requiring the Secretaries of Agriculture and the Interior to submit to the House and Senate Committees on Appropriations a report that addresses four major topics.

First, this report describes, by type and responsible official, anticipated land and resource management decisions associated with the ICBEMP. The report also describes the procedures for implementing decisions in the ICBEMP area.

Second, the report provides an estimate of the time frames for and costs of these decisions. It also includes a statement of the source of funds.

Third, the report contains an estimate of the production of goods and services from the federal lands managed by the Forest Service and the Bureau of Land Management (BLM) for the first five years, beginning with the date of publication of the Final EIS. Much of the information in this report is also included in the Supplemental Draft EIS.

Finally, the report provides a description of the decision-making process to be used to establish priorities in accordance with appropriations, if the requirements cannot be accomplished with current appropriations levels, adjusted for inflation, and without any reprogramming of such appropriations.

Dated: April 17, 2000.
Susan Giannettino,
Project Manager, US Forest Service.
Dated: April 17, 2000.
Cathy Humphrey,
Deputy EIS Team Leader, Bureau of Land Management.

[FR Doc. 00-10079 Filed 4-24-00 8:45 am]

BILLING CODE 4310-66-M